ENVIRONMENTAL PROTECTION AGENCY

[EPA-HQ-OPP-2023-0335; FRL-12007-01-OMS]

Agency Information Collection Activities; Submission to the Office of Management and Budget for Review and Approval; Comment Request; School Integrated Pest Management Awards Program (Renewal)

AGENCY: Environmental Protection Agency (EPA).

ACTION: Notice.

SUMMARY: The Environmental Protection Agency (EPA) has submitted an information collection request (ICR), School Integrated Pest Management Awards Program, (EPA ICR Number 2531.03 and OMB Control Number 2070-0200) to the Office of Management and Budget (OMB) for review and approval in accordance with the Paperwork Reduction Act. This is a proposed extension of the ICR, which is currently approved through May 31, 2024. Public comments were previously requested via the Federal Register on August 14, 2023 during a 60-day comment period. This notice allows for an additional 30 days for public comments.

DATES: Comments must be submitted on or before June 28, 2024.

ADDRESSES: Submit your comments, referencing Docket ID No. EPA-HQ-OPP-2023-0335, to EPA online using www.regulations.gov (our preferred method) or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI) or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Carolyn Siu, Office of Program Support (7602M), Office of Chemical Safety and Pollution Prevention, Environmental Protection Agency, 1200 Pennsylvania Ave. NW, Washington, DC 20460; telephone number: (202) 564-0335; email address: siu.carolyn@epa.gov.

SUPPLEMENTARY INFORMATION: This is a proposed extension of the ICR, which is currently approved through March 31, 2024. An agency may not conduct or sponsor and a person is not required to respond to a collection of information unless it displays a currently valid OMB control number.

Public comments were previously requested via the Federal Register on August 14, 2023 during a 60-day comment period (88 FR 55039). This notice allows for an additional 30 days for public comments. Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: This ICR covers the paperwork activities associated with the U.S. Environmental Protection Agency's new program to encourage the use of Integrated Pest Management (IPM) as the preferred approach to pest control in the nation's schools. IPM is a smart, sensible, and sustainable approach to pest control that emphasizes the remediation of pest conducive conditions. IPM combines a variety of pest management practices to provide effective, economical pest control with the least possible hazard to people, property, and the environment. These practices involve exclusion of pests, maintenance of sanitation, and the judicious use of pesticides.

EPA's vision is that all students in the U.S. will experience the benefits provided by an IPM program in their school district. The Agency's IPM implementation efforts are based on a wholesale approach aimed at kindergarten through 12th grade public and Tribal schools. The Agency intends to use the information collected through this ICR to encourage school districts to implement IPM programs and to recognize those that have attained a notable level of success. Since IPM implementation occurs along a continuum, the School IPM (SIPM) incentive program will recognize each milestone step a school district must take to begin, grow, and sustain an IPM program.

This program has five award categories—Great Start, Leadership, Excellence, Sustained Excellence, and Connector. The first four categories are stepwise levels that are reflective of the effort, experience, and, ultimately, success that results from implementing EPA-recommended IPM tactics that protect human health and the environment. Schools with pest infestations are not only exposed to potential harm to health and property, but also to stigmatization. The SIPM recognition program will give districts across the nation the opportunity to receive positive reinforcement through public recognition of their efforts in implementing pest prevention and management strategies.

Form numbers: 9600-054.

Respondents/affected entities: School districts or entities that represent them, which include the following North American Industry Classification System (NACIS) Codes: 6111—Elementary and Secondary Schools, 6244—Child Day Care Services, 56172—Janitorial Services, 56173—Landscaping Services, 56171—Exterminating and Pest Control Services, and 5617—Services to Buildings and Dwellings.

Respondent's obligation to respond: Voluntary but required to retain a benefit.

Estimated number of respondents: 53 (total).

Frequency of response: Occasionally.

Total estimated burden: 914 hours (per year). Burden is defined at 5 CFR 1320.3(b).

Total estimated cost: $98,358 (per year), includes $0 annualized capital or operation & maintenance costs.

Changes in the estimates: There are minor corrections to the burden from the last renewal for the Great Start, Model of Sustained Excellence and the Connector Award which were miscalculated but still reflect no change in the actual burden. There were no changes in the number of respondents and the Agency burden hours over the previous renewal cycle. The only change is that the cost estimates were updated using the May 2022 wage rates. This change is an adjustment.

Courtney Kerwin,
Director, Information Engagement Division.

[FR Doc. 2024-11778 Filed 5-28-24; 8:45 am]

BILLING CODE 6560-50-P